DEPARTMENT OF DEFENSE

Office of the Secretary

[Docket ID: DoD-2024-OS-0078]

Submission for OMB Review; Comment Request

AGENCY: Office of the Under Secretary of Defense for Personnel and Readiness (OUSD (P&R)), Department of Defense (DoD).

ACTION: 30-Day information collection notice.

SUMMARY: The DoD has submitted to the Office of Management and Budget (OMB) for clearance the following proposal for collection of information under the provisions of the Paperwork Reduction Act.

DATES: Consideration will be given to all comments received by October 23, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION: The DoD Civilian Employee Workplace and Gender Relations Survey (WGRC) will assess the attitudes and opinions of DoD civilian employees on gender issues including their experiences of and the climate surrounding sexual harassment, gender discrimination, and unwanted sexual contact in the DoD civilian workplace. These indicators provide primary data on estimated prevalence rates of unwanted gender-related experiences and historically provide the ability to evaluate the impact of policies and programs with regard to DoD civilian employees. The surveys are benchmarks by which senior DoD officials can track trends over time.

All Workplace and Gender Relations surveys are Congressionally-mandated to estimate rates of gender-based assaults, assess the effectiveness of policies and programming to prevent sexual harassment and sexual assault, and assess the overall gender relations climate within the Department in accordance with 10 U.S.C. 481. Historically, these surveys have been conducted with military members only, with the first congressionally mandated Workplace and Gender Relations survey conducted in 2002 for active-duty service members and 2004 for Reserve component members. Section 1073 of the FY 2015 NDAA extended this requirement to DoD Civilian employees as well, including an amendment that inserted Section 481a into 10 U.S.C. 481 outlining the survey requirement. The first administration of the WGRC was in FY 2016 per these statutory requirements and was administered to appropriated fund (APF) civilian employees only. The second administration of the WGRC was in 2018 and expanded the target population to include nonappropriated fund (NAF) civilian employees.

Title; Associated Form; and OMB Number: Department of Defense Civilian Employee Workplace and Gender Relations Survey; OMB Control Number 0704-0614.

Type of Request: Revision.

Number of Respondents: 91,286.

Responses per Respondent: 1.

Annual Responses: 91,286.

Average Burden per Response: 30 minutes.

Annual Burden Hours: 45,643.

Needs and Uses: The WGRC fulfills the Congressional mandate outlined in 10 U.S.C. 481a for a biennial survey assessment of gender relations in the DoD civilian workplace. The mandate requires that the survey (1) provides indicators of positive and negative trends for professional and personal relationships between male and female employees; (2) estimates the prevalence of unwanted gender-related behaviors for DoD civilian employees within the preceding fiscal year; (3) examines the effectiveness of policies designed to improve professional relationships between male and female employees; and (4) examines the effectiveness of current processes for complaints and investigations concerning unwanted gender-related behaviors, including sexual assault, sexual harassment, and gender discrimination. The legal requirements for the WGRC can be found in the following:

• FY15 NDAA, Section 1073.

• 10 U.S.C. 481a.

• 10 U.S.C. 136.

• 10 U.S.C. 2358.

• Public Law (Pub. L.) 111-383, Sections 1602 and 1631; 113-291, Section 1073.

These legal requirements mandate that the WGRC solicit information on gender issues, including issues relating to sexual assault, sexual harassment, and gender discrimination, as well as the climate in the Department for forming professional relationships between male and female employees. They also give the Department authority to conduct such surveys under the guidance of the USD(P&R).

Overall, the results of the survey will assess progress, identify shortfalls, and revise policies and programs as needed related to issues directly affecting DoD civilian employees. Data from this survey will be presented to the OUSD(P&R), and DoD policy and program offices to assess and improve policies, programs, practices, and training related to gender relations in the DoD informed by current and statistically reliable information. Analysis will include OPA's standard products: a results and trends report (a set of relative frequency distributions of each question, and cross-tabulations of survey questions by key stratifying variables), briefing slides, reports highlighting key findings, and a statistical methodology report. Ad hoc analyses requested by the policy office sponsors and other approved organizations may be conducted as needed and based on available staff.

Affected Public: Individuals or households.

Frequency: Biennially.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at dodhra.mc-alex.dhra-hq.mbx.information-collections@mail.mil.

Dated: September 17, 2024.
Aaron T. Siegel,
Alternate OSD Federal Register Liaison Officer, Department of Defense.

[FR Doc. 2024-21629 Filed 9-20-24; 8:45 am]

BILLING CODE 6001-FR-P